DEPARTMENT OF TRANSPORTATION

Research and Special Programs Administration

Office of Hazardous Materials Safety, Notice of Application for Exemptions

AGENCY: Research and Special Programs Administration, DOT.

ACTION: List of applications for exemption.

SUMMARY: In accordance with the procedures governing the application for, and the processing of, exemptions from the Department of Transportation's Hazardous Material Regulations (49 CFR part 107, subpart B), notice is hereby given that the Office of Hazardous Materials Safety has received the application described herein. Each mode of transportation for which a particular exemption is requested is indicated by a number in the “Nature of Application” portion of the table below as follows: 1—Motor vehicle, 2—Rail freight, 3—Cargo vessel, 4—Cargo aircraft only, 5—Passenger-carrying aircraft.

DATES: Comments must be received on or before March 1, 2004.

ADDRESS COMMENTS TO: Record Center, Research and Special Programs Administration, U.S. Department of Transportation, Washington, DC 20590.

Comments should refer to the application number and be submitted in triplicate. If Confirmation of receipt of comments is desired, include a self-addressed stamped postcard showing the exemption number.

FOR FURTHER INFORMATION: Copies of the applications are available for inspection in the Records Center, Nassif Building, 400 7th Street, SW., Washington, DC, or at http://dms.dot.gov.

This notice of receipt of applications for modification of exemption is published in accordance with Part 107 of the Federal hazardous materials transportation law (49 U.S.C. 5117(b); 49 CFR 1.53(b)).

Issued in Washington, DC, on January 22, 2004.
R. Ryan Poston,
Exemptions Program Officer, Office of Hazardous Materials Exemptions & Approvals.

New Exemption
Application No. | Docket No. | Applicant | Regulation(s) affected | Nature of exemption thereof
13346-N |  | Stand-By-Systems, Inc., Dallas, TX | 49 CFR 171.8 | To authorize the transportation in commerce of a specially designed medical oxygen device to be classed and described as “sodium chlorate”, Division 5.1, limited quantity, in lieu of an oxygen generator. (Modes 1, 2, 3).
13356-N |  | Bayshore Vinyl Compounds Inc., Tennent, NJ | 49 CFR 174.67(j)&(i) | To authorize rail cars without adapter fittings to be used for transporting Class 9 hazardous materials. (Mode 2).
13359-N |  | BASF Corporation, Mt. Olive, NJ | 49 CFR 173.302(a) | To authorize the transportation in commerce of boron trifluoride, a non-liquefied, Divison 2.3 (Hazard Zone B) gas in a non-DOT specification spherical pressure vessel. (Modes 1, 2, 3).
13360-N |  | The Dezac Group Ltd., Cheltenham, Gloucestershire, UK | 49 CFR 173.306 | To authorize the transportation in commerce of an aerosol-style container containing only a non-flammable, liquefied compressed gas to be transported as a limited quanity and/or ORM-D Consumer Commodity. (Modes 1, 2, 3, 4).
13361-N |  | Fireboy-xintex, Inc., Grand Rapids, MI | 49 CFR 173.309(a)(3)(i) | To authorize the transportation in commerce of non-DOT specification cylinders charged up to 240 psi for use in transporting liquefied compressed gas. (Modes 1, 2, 3, 4, 5).

[FR Doc. 04-1865 Filed 1-28-04; 8:45 am]

BILLING CODE 4909-6077